NUCLEAR REGULATORY COMMISSION

10 CFR Part 50

[Docket No. PRM-50-124; NRC-2022-0178]

Licensing Safety Analysis for Loss-of-Coolant Accidents

AGENCY: Nuclear Regulatory Commission.

ACTION: Petition for rulemaking; extension of comment period.

SUMMARY: On November 23, 2022, the U.S. Nuclear Regulatory Commission (NRC) published a notice requesting comments on a petition for rulemaking from Ralph O. Meyer dated August 1, 2022, docketed as PRM-50-124. The petition requests that the NRC revise its regulations regarding the licensing safety analysis for loss-of-coolant accidents. The public comment period was originally scheduled to close on February 6, 2023. The NRC has decided to extend the public comment period to allow more time for members of the public to develop and submit their comments.

DATES: The comment period for the notice published on November 23, 2022 (87 FR 71531), is extended to March 8, 2023. Comments received after this date will be considered, if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2022-0178. Address questions about NRC dockets to Dawn Forder; telephone: 301-415-3407; email: Dawn.Forder@nrc.gov. For technical questions contact the individual listed in the FOR FURTHER INFORMATION CONTACT section of this document.

• Email comments to: Rulemaking.Comments@nrc.gov. If you do not receive an automatic email reply confirming receipt, then contact us at 301-415-1677.

• Mail comments to: Secretary, U.S. Nuclear Regulatory Commission, Washington, DC 20555-0001, ATTN: Rulemakings and Adjudications Staff.

FOR FURTHER INFORMATION CONTACT: Blake Purnell, Office of Nuclear Material Safety and Safeguards, U.S. Nuclear Regulatory Commission, Washington, DC 20555-0001; telephone: 301-415-1380, email: Blake.Purnell@nrc.gov.

SUPPLEMENTARY INFORMATION:

I. Obtaining Information and Submitting Documents

A. Obtaining Information

Please refer to Docket ID NRC-2022-0178 when contacting the NRC about the availability of information for this action. You may obtain publicly available information related to this action by any of the following methods:

• Federal rulemaking website: Go to https://www.regulations.gov and search for Docket ID NRC-2022-0178.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents at the NRC's PDR, Room P1 B35, One White Flint North, 11555 Rockville Pike, Rockville, Maryland 20852.

B. Submitting Comments

The NRC encourages electronic comment submission through the Federal rulemaking website (https://www.regulations.gov). Please include Docket ID NRC-2022-0178 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC requested public comments on PRM-50-124 on November 23, 2022 (87 FR 71531). The purpose of the request was to obtain public input and responses on the request to revise NRC regulations regarding the licensing safety analysis for loss-of-coolant accidents. The public comment period was originally scheduled to close on February 6, 2023. The NRC has decided to extend the public comment period on this document until March 8, 2023, to allow more time for members of the public to submit their comments.

The NRC may post materials related to this document, including public comments, on the Federal rulemaking website at https://www.regulations.gov under Docket ID NRC-2022-0178. In addition, the Federal rulemaking website allows members of the public to receive alerts when changes or additions occur in a docket folder. To subscribe: (1) navigate to the docket folder (NRC-2022-0178); (2) click the “Subscribe” link; and (3) enter an email address and click on the “Subscribe” link.

Dated January 27, 2023.
For the Nuclear Regulatory Commission.
Brooke P. Clark,
Secretary of the Commission.

[FR Doc. 2023-02131 Filed 2-1-23; 8:45 am]

BILLING CODE 7590-01-P